DEPARTMENT OF JUSTICE

Antitrust Division

Notice Pursuant to the National Cooperative Research and Production Act of 1993_Ohio Aerospace Institute Federated Intelligent Product Environment Consortium (“FIPER”)

Notice is hereby given that, on July 17, 1999, pursuant to section 6(a) of the National Cooperative Research and Production Act of 1993, 15 U.S.C. 4301 et seq. (“the Act”), Ohio Aerospace Institute Federated Intelligent Product Environment Consortium (“FIPER”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Ohio Aerospace Institute, Cleveland, OH; BFGoodrich Aerospace, Aerostructures Group, Chula Vista, CA; Engineous Software, Inc., Morrisville, NC; GE Aircraft Engines, Cincinnati, OH; Ohio University, Athens, OH; and Parker Hannifin Corporation, Mentor, OH. The nature and objectives of the venture are to conduct research and development directed at reducing design time by intelligently automating elements of the design process in a linked associative environment. The participants are joining together to collaborate to accelerate the development of technology to provide true concurrency between design and manufacturing. Information regarding participation in The Federated Intelligent Product Environment “FIPER” Consortium may be obtained from Jake Breland, Ohio Aerospace Institute (OAI), 22800 Cedar Point Rd., Cleveland, Ohio 44142.

Constance K. Robinson,
Director of Operations, Antitrust Division.

[FR Doc. 00-3127 Filed 2-9-00; 8:45 am]

BILLING CODE 4410-11-M